CORPORATION FOR NATIONAL AND COMMUNITY SERVICE

Agency Information Collection Activities; Comment Request; Application Package for AmeriCorps Program Life Cycle Evaluation—Climate Change Bundled Evaluation

AGENCY: Corporation for National and Community Service.

ACTION: Notice of information collection; request for comment.

SUMMARY: In accordance with the Paperwork Reduction Act of 1995, the Corporation for National and Community Service, operating as AmeriCorps, is proposing a new information collection.

DATES: Written comments must be submitted to the individual and office listed in the ADDRESSES section by October 17, 2022.

ADDRESSES: You may submit comments, identified by the title of the information collection activity, by any of the following methods:

(1) By mail sent to: AmeriCorps, Attention Jehyra M. Asencio-Yace, 250 E Street SW, Washington, DC 20525.

(2) By hand delivery or by courier to the AmeriCorps mailroom at the mail address given in paragraph (1) above, between 9 a.m. and 4 p.m. Eastern Time, Monday through Friday, except Federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Xiaodong Zhang, 703-251-0883, or by email at xiaodong.zhang@icf.com.

SUPPLEMENTARY INFORMATION:

Title of Collection: AmeriCorps Program Life Cycle Evaluation—Climate Change Bundled Evaluation.

OMB Control Number: TBD. Type of Review: New.

Respondents/Affected Public: Grantee and sponsor organizations, national service members, community members, and partner organization staff.

Total Estimated Number of Annual Responses: 610 responses.

Total Estimated Number of Annual Burden Hours: 232 hours.

Abstract: The purpose of this evaluation is to provide insight on the implementation of the climate change bundle programs and explore variation in activities for education and training, disaster response, conservation, wildfire mitigation, and energy efficiency. It will explore the ways in which the programs influence community resilience. It will also examine changes in attitudes and behaviors toward civic engagement among national service members and the development of job skills, including skills for green jobs. Finally, it will examine how the programs are serving vulnerable communities and at-risk populations. The research questions for this evaluation will be:

1. How do programs/members connect their work to climate change?

2. To what extent does the program include opportunities to increase equity?

3. To what extent is the program operating as intended?

4. What are some promising practices and some challenges in implementing the climate change grant programs?

5. What were the barriers and facilitators to meet the intended outcomes of the program?

6. What are the lessons learned that can inform the field or be useful for practitioners that work in this space?

7. What is the likelihood that the program will be sustained beyond the grant?

8. How were the communities and community members impacted by climate change prior to the program?

9. What types of communities are being helped by the climate change grant programs?

10. To what extent are programs focused on vulnerable populations and communities?

11. What are the demographic characteristics of national service members (e.g., gender, age, race, ethnicity, education)?

12. How did the COVID-19 pandemic affect program operations?

13. How did the COVID-19 pandemic affect national service members?

14. What partner organizations are involved (e.g., community organizations, local agencies)? What are their roles in the program?

15. What is the breadth (number and type of partnership), quality, and quantity of the partnership(s) (number and frequency of joint activities and their strength)?

16. How were partnerships built and maintained?

17. How do grantee and sponsor organizations work with partners to build community resilience?

18. To what extent do the climate change grant programs:

a. improve energy efficiency and increase the use of renewable energy sources?

b. help communities prepare, respond, and recover from natural disasters and other climate change effects?

c. preserve public lands and waterways and protect or restore biodiversity?

d. increase community members' knowledge, attitudes, and behaviors around climate change?

e. build capacity of the community to be resilient?

19. How do the climate change grant programs lead to increased civic engagement?

20. In what ways does participation in the climate change grant programs influence national service members' job skills development toward green jobs?

21. To what extent does participation in the climate change grant programs:

a. increase national service members' functional and technical job skills?

b. increase national service members' interest/willingness to pursue a career in a green job?

c. lead to a job after their service?

d. lead to a career in a green job after their service?

ICF will conduct a bundled evaluation of grantees and sponsors with an explicit emphasis on activities related to addressing climate change. By bundling, this evaluation combines programs and projects with similar program approaches into a single evaluation. Spanning 32 months, the evaluation includes up to 30 grantees and sponsors to examine program design, implementation, and outcomes using surveys, interviews, and focus groups with a wide range of stakeholders including grantee and sponsor staff, partner organizations, national service members, and community members. This is a new information collection.

Comments submitted in response to this notice will be summarized and/or included in the request for OMB approval. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions; to develop, acquire, install, and use technology and systems for the purpose of collecting, validating, and verifying information, processing and maintaining information, and disclosing and providing information; to train personnel to be able to respond to a collection of information, to search data sources, and to complete and review the collection of information; and to transmit or otherwise disclose the information. All written comments will be available for public inspection on regulations.gov.

Dated: August 11, 2022.
Mary Hyde,
Director, Office of Research and Evaluation.

[FR Doc. 2022-17650 Filed 8-16-22; 8:45 am]

BILLING CODE 6050-28-P